FEDERAL COMMUNICATIONS COMMISSION

[CC Docket No. 96-45; DA 01-278]

Common Carrier Bureau Seeks Comment on Western Wireless's Petition for Designation as an Eligible Telecommunications Carrier for the Pine Ridge Reservation in South Dakota

AGENCY: Federal Communications Commission.

ACTION: Notice; solicitation of comments.

SUMMARY: In a Public Notice in this proceeding released on February 2, 2001, the Common Carrier Bureau sought comment on Western Wireless' petition seeking designation as an eligible telecommunications carrier to receive federal universal service support for a service area comprised of the Pine Ridge Reservation in South Dakota.

DATES: Comments are due on or before March 12, 2001. Reply comments are due on or before March 26, 2001.

ADDRESSES: See Supplementary Information section for where and how to file comments.

FOR FURTHER INFORMATION CONTACT: Richard D. Smith or Anita Cheng, Common Carrier Bureau, Accounting Policy Division, (202) 418-7400 TTY: (202) 418-0484.

SUPPLEMENTARY INFORMATION: On January 19, 2001, Western Wireless Corporation (Western Wireless) filed with the Commission a petition under section 214(e)(6) seeking designation as an eligible telecommunications carrier (ETC) to receive federal universal service support for the provision of service on the Pine Ridge Reservation in South Dakota. Specifically, Western Wireless contends that: (1) Telecommunications service offered on the Pine Ridge Reservation is not subject to the jurisdiction of the South Dakota Public Utilities Commission (South Dakota Commission), (2) Western Wireless meets all the statutory and regulatory requirements to be an ETC, and (3) designating Western Wireless as an ETC for the Reservation will advance the public interest. The Common Carrier Bureau seeks comment on Western Wireless' petition.

In the Twelfth Report and Order, 65 FR 47941, August 4, 2000, the Commission concluded that a carrier seeking a designation of eligibility to receive federal universal service support for telecommunications service provided on tribal lands may petition the Commission for designation under section 214(e)(6), without first seeking designation from the appropriate state commission. The petitioner must provide copies of its petition to the appropriate state commission at the time of filing with the Commission. Pursuant to the guidelines established in the Twelfth Report and Order, the Commission will publish a copy of this Public Notice, or a summary thereof, in the Federal Register. The Commission will also send the Public Notice announcing the comment and reply comment dates to the South Dakota Commission by overnight express mail to ensure that the state commission is notified of the notice and comment period. To ensure that all interested parties are aware of the comment dates, the Bureau will issue a Public Notice following Federal Register publication specifying the exact comment and reply comment dates.

Pursuant to §§ 1.415 and 1.419 of the Commission's rules, interested parties may file comments as follows: Comments are due March 12, 2001 and reply comments are due March 26, 2001. Comments may be filed using the Commission's Electronic Comment Filing System (ECFS) or by filing paper copies. See Electronic Filing of Documents in Rulemaking Proceedings, 63 FR 24121, May 1, 1998. Comments filed through the ECFS can be sent as an electronic file via the Internet to <http://www.fcc.gov/e-file/ecfs.html>. Generally, only one copy of an electronic submission must be filed. In completing the transmittal screen, commenters should include their full name, Postal Service mailing address, and the applicable docket or rulemaking number. Parties may also submit electronic comments by Internet e-mail. To receive filing instructions for e-mail comments, commenters should send an e-mail to ecfs@fcc.gov, and should include the following words in the body of the message, “get form <your e-mail address>.” A sample form and directions will be sent in reply. Parties who choose to file by paper must file an original and four copies of each filing. All filings must be sent to the Commission's Secretary, Magalie Roman Salas, Office of the Secretary, Federal Communications Commission, 445 12th Street, SW., Washington, DC 20554.

Parties also must send three paper copies of their filing to Sheryl Todd, Accounting Policy Division, Common Carrier Bureau, Federal Communications Commission, 445 Twelfth Street SW., Room 5-B540, Washington, DC 20554. In addition, commenters must send diskette copies to the Commission's copy contractor, International Transcription Service, Inc., 1231 20th Street, NW., Washington, DC 20037.

Pursuant to § 1.1206 of the Commission's rules, this proceeding will be conducted as a permit-but-disclose proceeding in which ex parte communications are permitted subject to disclosure.

Dated: February 5, 2001.
Katherine L. Schroder,
Division Chief, Accounting Policy Division.

[FR Doc. 01-3325 Filed 2-8-01; 8:45 am]

BILLING CODE 6712-01-U